DEPARTMENT OF COMMERCE

National Oceanic and Atmospheric Administration

RIN 0648-XZ11

New England and Mid-Atlantic Fishery Management Councils; Amendment 5 to the Monkfish Fishery Management Plan

AGENCY: National Marine Fisheries Service (NMFS), National Oceanic and Atmospheric Administration (NOAA), Commerce.

ACTION: Supplemental Notice of Intent to prepare an environmental assessment (EA); request for comments.

SUMMARY: This supplemental notice is to alert the interested public of the New England Fishery Management Council's (Council) intent to change the level of NEPA analysis for Amendment 5 to the Monkfish Fishery Management Plan (FMP) from an Environmental Impact Statement (EIS) to an EA and to provide for public comment on this course of action. The primary purpose of Amendment 5 is to address the Magnuson-Stevens Fishery Conservation and Management Act (Magnuson-Stevens Act) requirements for annual catch limits (ACLs) and accountability measures (AMs), to set multi-year specifications of days-at-sea (DAS) and trip limits, and to make other adjustments to measures in the FMP.

DATES: Written comments must be received on or before 5 p.m., EST, on October 5, 2010.

ADDRESSES: Written comments may be sent by any of the following methods:

• E-mail to the following address: 0648-XZ11@noaa.gov;

• Mail or hand deliver to Paul Howard, Executive Director, New England Fishery Management Council, 50 Water St., Mill 2, Newburyport, MA, 01950. Mark the outside of the envelope “Monkfish Amendment 5 EA Comments”; or

• Fax to (978) 465-3116.

Questions about this action may be directed to the Council office at the previously provided address, or by request to the Council by telephone (978) 465-0492.

FOR FURTHER INFORMATION CONTACT: Paul Howard, Executive Director, New England Fishery Management Council, 50 Water St., Mill 2, Newburyport, MA, 01950, (telephone 978-465-0492).

SUPPLEMENTARY INFORMATION: On February 20, 2009, the Council announced its intention to prepare, in cooperation with NMFS, an EIS in accordance with NEPA to assess potential effects on the human environment of alternative measures to address the new Magnuson-Stevens Act requirements for ACLs and AMs (74 FR 7880). The Magnuson-Stevens Act also required that the ACLs and AMs be adopted by 2011. During the early development stages of Amendment 5, the Council considered including proposals for adopting a major revision to the management program, shifting from effort controls (DAS and trip limits) to catch share management (individual vessel quotas or sectors). By September 2009, the Council recognized that, due to their complexity, development of catch share alternatives would likely delay Amendment 5, and risk not meeting the statutory ACL/AM deadline. At that time, the Council decided to separate the catch shares portion of the amendment so it could focus on the remaining elements. It also agreed to consider catch shares in the next management action. With this decision, it was determined that remaining measures contained in Amendment 5 were not likely to be significant under NEPA, and the development of an EIS was no longer necessary.

The Council held six public hearings on the EA prepared for Amendment 5 between February 8 and March 9, 2010. Based on comments received and the preliminary analysis contained in the EA, the preparation of an EIS no longer appears necessary.

Dated: September 15, 2010.
Carrie Selberg,
Acting Director, Office of Sustainable Fisheries, National Marine Fisheries Service.

[FR Doc. 2010-23441 Filed 9-17-10; 8:45 am]

BILLING CODE 3510-22-S